DEPARTMENT OF VETERANS AFFAIRS

[OMB Control No. 2900-0564]

Agency Information Collection Activities Under OMB Review

AGENCY: Veterans Benefits Administration, Department of Veterans Affairs

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before July 3, 2006.

FOR FURTHER INFORMATION CONTACT: Denise McLamb, Records Management Service (005G2), Department of Veterans Affairs, 810 Vermont Avenue, NW., Washington, DC 20420, (202) 565-8374, FAX (202) 565-6950 or e-mail denise.mclamb@mail.va.gov. Please refer to “OMB Control No. 2900-0564.”

Send comments and recommendations concerning any aspect of the information collection to VA's OMB Desk Officer, OMB Human Resources and Housing Branch, New Executive Office Building, Room 10235, Washington, DC 20503, (202) 395-7316. Please refer to “OMB Control No. 2900-0564” in any correspondence.

SUPPLEMENTARY INFORMATION: Title:

a. Direct Deposit Enrollment, VA Form 24-0296.

b. Direct Deposit Enrollment (Australia), VA Form 24-0296a.

c. Direct Deposit Enrollment (Canada), VA Form 24-0596b.

d. Direct Deposit Enrollment (Germany), VA Form 24-2096c.

e. Direct Deposit Enrollment (Ireland), VA Form 24-0296d.

f. Direct Deposit Enrollment (United Kingdom), VA Form 24-0296e.

OMB Control Number: 2900-0564.

Type of Review: Extension of a currently approved collection.

Abstract: Claimants complete the Direct Deposit Enrollment forms to authorize VA to electronically deposit their benefit payments into their financial institution account.

An agency may not conduct or sponsor, and a person is not required to respond to a collection of information unless it displays a currently valid OMB control number. The Federal Register Notice with a 60-day comment period soliciting comments on this collection of information was published on April 20, 2006 at page 20438.

Affected Public: Individuals or households.

Estimated Annual Burden:

a. VA Form 24-0296—750 hours.

b. VA Form 24-0296a (Australia)—100 hours.

c. VA Form 24-2096b (Canada)—100 hours.

d. VA Form 24-2096c (Germany)—100 hours.

e. VA Form 24-2096d (Ireland)—100 hours.

f. VA Form 24-2096e (United Kingdom)—100 hours.

Estimated Average Burden per Respondent: 15 minutes.

Frequency of Response: On occasion.

Estimated Number of Respondents: 5,000.

a. VA Form 24-0296—3,000.

b. VA Form 24-0296a (Australia)—400.

c. VA Form 24-2096b (Canada)—400.

d. VA Form 24-2096c (Germany)—400.

e. VA Form 24-0296d (Ireland)—400.

f. VA Form 24-0296e (United Kingdom)—400.

Dated: May 22, 2006.
By direction of the Secretary.
Denise McLamb,
Program Analyst, Records Management Service.

[FR Doc. E6-8419 Filed 5-31-06; 8:45 am]

BILLING CODE 8320-01-P